DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: North Atlantic Recreational Fishing Survey.

OMB Control Number: 0648-.

Form Number(s): None.

Type of Request: Regular (Request for a new collection).

Number of Respondents: 1,295.

Average Hours per Response: Telephone pre-screening survey with an eligible angler, 3 minutes; telephone pre-screening survey with an ineligible angler, 1 minute; completion of mail/email survey by an eligible angler, 20 minutes; completion of mail/email survey by an ineligible angler, 10 minutes.

Burden Hours: 226.66.

Needs and Uses: The Northeast Fisheries Science Center (NEFSC) is conducting an economics research project to assess how changes in recreational Atlantic cod and haddock fishing regulations affect angler effort, angler welfare, fishing mortality, and future stock levels. The statistical model needed to meet this research objective requires fishing-related and socioeconomic data on users of these fisheries. To collect this essential information, the NEFSC seeks to implement the North Atlantic Recreational Fishing Survey (NARFS), a questionnaire directed toward recreational anglers who fish for Atlantic cod or haddock off the coast of Maine, New Hampshire, and Massachusetts. Data collected by the NARFS will be used as input into a bioeconomic model that is currently used to determine recreational fishing regulations for North Atlantic cod and haddock (83 FR 18972).

Affected Public: Individuals or households.

Frequency: On occasion.

Respondent's Obligation: Voluntary.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-06648 Filed 4-4-19; 8:45 am]

BILLING CODE 3510-22-P